DEPARTMENT OF TRANSPORTATION

Federal Highway Administration

Environmental Impact Statement: Madison and Hinds Counties, MS

AGENCY: Federal Highway Administration (FHWA), Department Of Transportation (DOT).

ACTION: Notice of Intent.

SUMMARY: The Federal Highway Administration is issuing this notice to advise the public that an Environmental Impact Statement will be prepared to study improvements to State Route 22 from Interstate 55 near Canton in Madison County, MS to Interstate 20 near Edwards in Hinds County Mississippi.

FOR FURTHER INFORMATION CONTACT: Mr. Cecil Vick, Project Development Team Leader, Federal Highway Administration 666 North Street, Suite 105, Jackson, MS 39202-3199, Telephone: (601) 965-4217. contacts at the State and local level, respectively are: Mr. Claiborne Barnwell, Environmental/Location Division Engineer, Mississippi Department of Transportation, 7759 Highway 80 West, Newton, MS 39345, telephone (601) 683-3341.

SUPPLEMENTARY INFORMATION: The FHWA, Mississippi Division Office will serve as the lead Federal agency for this project while the Mississippi Department of Transportation (MDOT) will serve as joint lead agency. The FHWA, in cooperation with MDOT, will prepare an Environmental Impact Statement (EIS) to study potential improvements to the existing State Route 22 (SR 22) corridor. This 40-mile long corridor will be upgraded to Interstate standards. It has logical termini near Canton, MS in Madison County on Interstate 55 and near Edwards, MS on Interstate 20 in Hinds County.

The purpose of the EIS is to address the transportation, environmental, and safety issues of such a transportation corridor. The improved connection will improve mobility and access throughout the Jackson metropolitan area and support economic activity. the highway is proposed as a full control of access facility, and appropriate interchanges will be studied at various locations. Alternatives under consideration include (1) taking no action and (2) build alternatives.

The FHWA and MDOT are seeking input as a part of the scoping process to assist in determining and clarifying issues relative to this project. Letters describing the proposed action and soliciting comments will be sent to appropriate federal, state, and local agencies, Native American tribes, private organizations and citizens who have previously expressed or are known to have interest in this proposal. A formal scoping meeting with federal, state, and local agencies, and other interested parties will be held in the near future. Public involvement meetings will be held during the EIS process. The draft EIS will be available for public and agency review and comment prior to the official public hearing.

To ensure that the full range of issues related to this proposed action are addressed and all significant issues identified, comments and suggestions are invited from all interested parties. Comments or questions concerning this proposed action and the EIS should be directed to the FHWA at the address provided above.

Andrew H. Hughes,
Federal Highway Administration, Division Administrator, Mississippi Division, Jackson, Mississippi.

[FR Doc. 07-3907 Filed 8-9-07; 8:45 am]

BILLING CODE 4910-22-M